DEPARTMENT OF THE INTERIOR

Bureau of Land Management

[LLNMA02000-L1430000.ET0000; NMNM77967]

Public Land Order No. 7762; Extension of Public Land Order No. 6845; New Mexico

AGENCY: Bureau of Land Management, Interior.

ACTION: Public land order.

SUMMARY: This order extends the withdrawal created by Public Land Order No. 6845 for an additional 20-year term. This extension is necessary to continue protection of the archaeological values at the Arroyo del Tajo Pictograph Site in Socorro County, New Mexico.

DATES: Effective Date: April 12, 2011.

FOR FURTHER INFORMATION CONTACT: Ann D. Sullivan, Bureau of Land Management, Socorro Field Office, 901 S. Highway 85, Socorro, New Mexico 87801, or 575-835-0412.

SUPPLEMENTARY INFORMATION: The purpose for which the withdrawal was first made requires this extension to continue protection of the archaeological values at the Arroyo del Tajo Pictograph Site. The withdrawal extended by this order will expire on April 11, 2031, unless, as a result of a review conducted prior to the expiration date pursuant to Section 204(f) of the Federal Land Policy and Management Act of 1976, 43 U.S.C. 1714(f), the Secretary determines that the withdrawal shall be further extended.

Order

By virtue of the authority vested in the Secretary of the Interior by Section 204 of the Federal Land Policy and Management Act of 1976, 43 U.S.C. 1714, it is ordered as follows:

Public Land Order No. 6845 (56 FR 14865 (1991)), which withdrew 200 acres of public land from settlement, sale, location, or entry under the general land laws, including the United States mining laws (30 U.S.C. ch. 2), but not leasing under the mineral leasing laws, to protect the archaeological values at the Arroyo del Tajo Pictograph Site, is hereby extended for an additional 20-year period until April 11, 2031.

(Authority: 43 CFR 2310.4)

Dated: April 5, 2011.
Wilma A. Lewis,
Assistant Secretary—Land and Minerals Management.

[FR Doc. 2011-9428 Filed 4-18-11; 8:45 am]

BILLING CODE 4310-MW-P